DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: January 16, 2015.
Roy E. Wright,
Deputy Associate Administrator for Mitigation, Department of Homeland Security, Federal Emergency Management Agency.

State and county | Location and case No. | Chief executive officer of community | Community map repository | Effective date of modification | Community No.
Arizona:
Maricopa (FEMA Docket No.: B-1442) | City of Scottsdale (14-09-2290P) | The Honorable Jim Lane, Mayor, City of Scottsdale, 3939 North Drinkwater Boulevard, Scottsdale, AZ 85251 | City Hall, 3939 North Drinkwater Boulevard, Scottsdale, AZ 85251 | Dec. 5, 2014 | 045012
Maricopa (FEMA Docket No.: B-1448) | Unincorporated areas of Maricopa County (14-09-2380P) | The Honorable Denny Barney, Chairman, Maricopa County Board of Supervisors, 301 West Jefferson, 10th Floor, Phoenix, AZ 85003 | Maricopa County Flood Control District, 2801 West Durango Street, Phoenix, AZ 85009 | Dec. 19, 2014 | 040037
Mohave (FEMA Docket No.: B-1448) | Unincorporated areas of Mohave County (14-09-0137P) | The Honorable Hildy Angius, Chair, Mohave County Board of Supervisors, 700 West Beale Street, Kingman, AZ 86401 | Mohave County Administration Building, 700 West Beale Street, Kingman, AZ 86401 | Dec. 22, 2014 | 040058
Pinal (FEMA Docket No.: B-1448) | Town of Florence (13-09-2571P) | The Honorable Tom Rankin, Mayor, Town of Florence, P.O. Box 2670, Florence, AZ 85132 | Department of Public Works, 425 East Ruggles, Florence, AZ 85232 | Dec. 17, 2014 | 040084
Pinal (FEMA Docket No.: B-1448) | Unincorporated areas of Pinal County (13-09-2571P) | The Honorable Anthony Smith, Chairman, Pinal County Board of Supervisors, 41600 West Smith Enke Road, Suite 128, Maricopa, AZ 85138 | Pinal County Engineering Department, 31 North Pinal Street, Building F, Florence, AZ 85232 | Dec. 17, 2014 | 040077
California:
Alameda (FEMA Docket No.: B-1442) | City of Fremont (14-09-0273P) | The Honorable Bill Harrison, Mayor, City of Fremont, 3300 Capitol Avenue, Fremont, CA 94538 | Development Services Center, 39550 Liberty Street, Fremont, CA 94538 | Nov. 28, 2014 | 065028
San Diego (FEMA Docket No.: B-1442) | Unincorporated areas of San Diego County (14-09-1892P) | The Honorable Dianne Jacob, Chair, San Diego County Board of Supervisors, 1600 Pacific Highway, San Diego, CA 92101 | San Diego County Department of Public Works, Flood Control Division, 5510 Overland Avenue, Suite 410, San Diego, CA 92123 | Dec. 2, 2014 | 060284
Tulare (FEMA Docket No.: B-1442) | Unincorporated areas of Tulare County (13-09-2741P) | The Honorable Phillip Cox, Chairman, Tulare County Board of Supervisors, 2800 West Burrel Avenue, Visalia, CA 93291 | Tulare County Resource Management Headquarters, 5961 South Mooney Boulevard, Visalia, CA 93277 | Dec. 4, 2014 | 065066
Ventura (FEMA Docket No.: B-1448) | City of Camarillo (14-09-2662P) | The Honorable Kevin Kildee, Mayor, City of Camarillo, 601 Carmen Drive, Camarillo, CA 93010 | Public Works Department, 601 Carmen Drive, Camarillo, CA 93010 | Dec. 18, 2014 | 065020
Ventura (FEMA Docket No.: B-1448) | Unincorporated areas of Ventura County (14-09-2662P) | The Honorable Steve Bennett, Chairman, Ventura County Board of Supervisors, 800 South Victoria Avenue, Ventura, CA 93009 | Ventura County Public Works Department, 800 South Victoria Avenue, Ventura, CA 93009 | Dec. 18, 2014 | 060413
Colorado:
Adams (FEMA Docket No.: B-1448) | City of Aurora (14-08-0672P) | The Honorable Steve Hogan, Mayor, City of Aurora, 15151 East Alameda Parkway, Aurora, CO 80012 | Engineering Department, 15151 East Alameda Parkway, Aurora, CO 80012 | Dec. 19, 2014 | 080002
Arapahoe (FEMA Docket No.: B-1442) | City of Cherry Hills Village (14-08-0050P) | The Honorable Doug Tisdale, Mayor, City of Cherry Hills Village, 2450 East Quincy Avenue, Cherry Hills Village, CO 80113 | City Hall, 2450 East Quincy Avenue, Cherry Hills Village, CO 80113 | Dec. 5, 2014 | 080013
Boulder (FEMA Docket No.: B-1442) | Town of Lyons (14-08-0669P) | The Honorable John O'Brien, Mayor, Town of Lyons, P.O. Box 49, Lyons, CO 80540 | Town Hall, 432 5th Avenue, Lyons, CO 80540 | Dec. 9, 2014 | 080029
Eagle (FEMA Docket No.: B-1448) | Town of Basalt (14-08-0868P) | The Honorable Jacque Whitsitt, Mayor, Town of Basalt, 101 Midland Avenue, Basalt, CO 81621 | Town Hall, 101 Midland Avenue, Basalt, CO 81621 | Nov. 28, 2014 | 080052
Eagle (FEMA Docket No.: B-1448) | Unincorporated areas of Eagle County (14-08-0868P) | The Honorable Jill Ryan, Chair, Eagle County Board of Commissioners, P.O. Box 850, Eagle, CO 81631 | Eagle County Building and Engineering Department, 500 Broadway Street, Eagle, CO 81631 | Nov. 28, 2014 | 080051
Jefferson (FEMA Docket No.: B-1442) | City of Lakewood (14-08-0872P) | The Honorable Bob Murphy, Mayor, City of Lakewood, 480 South Allison Parkway, Lakewood, CO 80226 | Engineering Department, 480 South Allison Parkway, Lakewood, CO 80226 | Nov. 28, 2014 | 085075
Jefferson (FEMA Docket No.: B-1442) | Unincorporated areas of Jefferson County (14-08-0683P) | The Honorable Faye Griffin, Chair, Jefferson County Board of Commissioners, 100 Jefferson County Parkway, Golden, CO 80419 | Jefferson County Department of Planning and Zoning, 100 Jefferson County Parkway, Golden, CO 80419 | Dec. 5, 2014 | 080087
Larimer (FEMA Docket No.: B-1448) | City of Fort Collins (14-08-0580P) | The Honorable Karen Weitkunat, Mayor, City of Fort Collins, P.O. Box 580, Fort Collins, CO 80522 | Stormwater Utilities Department, 700 Wood Street, Fort Collins, CO 80521 | Dec. 15, 2014 | 080102
Larimer (FEMA Docket No.: B-1448) | Unincorporated areas of Larimer County (14-08-0580P) | The Honorable Tom Donnelly, Chairman, Larimer County Board of Commissioners, P.O. Box 1190, Fort Collins, CO 80522 | Larimer County Engineering Department, 200 West Oak Street, Fort Collins, CO 80521 | Dec. 15, 2014 | 080101
Florida:
Collier (FEMA Docket No.: B-1448) | City of Marco Island (14-04-5856P) | The Honorable Kenneth E. Honecker, Chairman, Marco Island City Council, 50 Bald Eagle Drive, Marco Island, FL 34145 | City Hall, 50 Bald Eagle Drive, Marco Island, FL 34145 | Dec. 11, 2014 | 120426
Duval (FEMA Docket No.: B-1448) | City of Atlantic Beach (14-04-0427P) | The Honorable Carolyn Woods, Mayor, City of Atlantic Beach, 800 Seminole Road, Atlantic Beach, FL 32233 | City Hall, 800 Seminole Road, Atlantic Beach, FL 32233 | Dec. 22, 2014 | 120075
Duval (FEMA Docket No.: B-1448) | City of Jacksonville (14-04-0427P) | The Honorable Alvin Brown, Mayor, City of Jacksonville, 117 West Duval Street, Jacksonville, FL 32202 | City Hall, 117 West Duval Street, Jacksonville, FL 32202 | Dec. 22, 2014 | 120077
Duval (FEMA Docket No.: B-1448) | City of Jacksonville (14-04-1465P) | The Honorable Alvin Brown, Mayor, City of Jacksonville, 117 West Duval Street, Jacksonville, FL 32202 | City Hall, 117 West Duval Street, Jacksonville, FL 32202 | Dec. 11, 2014 | 120077
Miami-Dade (FEMA Docket No.: B-1448) | City of Sunny Isles Beach (14-04-4655P) | The Honorable Norman S. Edelcup, Mayor, City of Sunny Isles Beach, 18070 Collins Avenue, Sunny Isles Beach, FL 33160 | Government Center, 18070 Collins Avenue, Sunny Isles Beach, FL 33160 | Dec. 22, 2014 | 120688
Monroe (FEMA Docket No.: B-1442) | Unincorporated areas of Monroe County (14-04-5223P) | The Honorable Sylvia Murphy, Mayor, Monroe County, 1100 Simonton Street, Key West, FL 33040 | Monroe County Department of Planning and Environmental Resources, 2798 Overseas Highway, Marathon, FL 33050 | Dec. 2, 2014 | 125129
Polk (FEMA Docket No.: B-1442) | Unincorporated areas of Polk County (13-04-6579P) | The Honorable R. Todd Dantzler, Chairman, Polk County Board of Commissioners, P.O. Box 9005, Bartow, FL 33831 | Polk County Engineering Division, 330 West Church Street, Bartow, FL 33830 | Nov. 28, 2014 | 120261
Sarasota (FEMA Docket No.: B-1448) | City of Sarasota (14-04-5350P) | The Honorable Willie Charles Shaw, Mayor, City of Sarasota, 1565 1st Street, Sarasota, FL 34236 | City Hall, 1565 1st Street, Sarasota, FL 34236 | Dec. 22, 2014 | 125150
Sarasota (FEMA Docket No.: B-1442) | Town of Longboat Key (14-04-6848P) | The Honorable Jim Brown, Mayor, Town of Longboat Key, 501 Bay Isles Road, Longboat Key, FL 34228 | Town Hall, 501 Bay Isles Road, Longboat Key, FL 34228 | Dec. 11, 2014 | 125126
Volusia (FEMA Docket No.: B-1442) | City of Orange City (14-04-0649P) | The Honorable Tom Laputka, Mayor, City of Orange City, 205 East Graves Avenue, Orange City, FL 32763 | Planning Department, 205 East Graves Avenue, Orange City, FL 32763 | Dec. 2, 2014 | 120633
Georgia:
Columbia (FEMA Docket No.: B-1442) | Unincorporated areas of Columbia County (14-04-0306P) | The Honorable Ron C. Cross, Chairman, Columbia County Board of Commissioners, P.O. Box 498, Evans, GA 30809 | Columbia County Stormwater Department, 603 Ronald Reagan Drive, Building A, East Wing, Evans, GA 30809 | Dec. 1, 2014 | 130059
Decatur (FEMA Docket No.: B-1448) | City of Bainbridge (14-04-1920P) | The Honorable Edward Reynolds, Mayor, City of Bainbridge, P.O. Box 158, Bainbridge, GA 39818 | City Hall, 107 Broad Street, Bainbridge, GA 39817 | Nov. 17, 2014 | 130204
Decatur (FEMA Docket No.: B-1448) | Unincorporated areas of Decatur County (14-04-1920P) | The Honorable Frank Loeffler, Chairman, Decatur County Board of Commissioners, P.O. Box 726, Bainbridge, GA 39818 | Decatur County Planning Department, 309 Airport Road, Bainbridge, GA 39817 | Nov. 17, 2014 | 130451
Gwinnett (FEMA Docket No.: B-1448) | City of Duluth (14-04-1324P) | The Honorable Nancy Harris, Mayor, City of Duluth, 3167 Main Street, Duluth, GA 30096 | Department of Planning and Development, 3578 West Lawrenceville Street, Duluth, GA 30096 | Nov. 24, 2014 | 130098
Richmond (FEMA Docket No.: B-1442) | Augusta-Richmond County (14-04-4315P) | The Honorable Deke S. Copenhaver, Mayor, Augusta-Richmond County, 530 Greene Street, Augusta, GA 30901 | Augusta-Richmond County Planning and Development Department, 525 Telfair Street, Augusta, GA 30901 | Nov. 28, 2014 | 130158
South Carolina:
Charleston (FEMA Docket No.: B-1442) | City of Charleston (14-04-7487X) | The Honorable Joseph P. Riley, Jr., Mayor, City of Charleston, P.O. Box 652, Charleston, SC 29402 | Department of Public Services, 75 Calhoun Street, 3rd Floor, Charleston, SC 29401 | Dec. 2, 2014 | 455412
Lancaster (FEMA Docket No.: B-1442) | Unincorporated areas of Lancaster County (14-04-4016P) | The Honorable Larry McCullough, Chairman, Lancaster County Council, 101 North Main Street, Lancaster, SC 29721 | Lancaster County Building and Zoning Department, 101 North Main Street, Lancaster, SC 29721 | Dec. 11, 2014 | 450120
South Dakota:
Lawrence (FEMA Docket No.: B-1442) | City of Spearfish (14-08-0440P) | The Honorable Dana Boke, Mayor, City of Spearfish, 625 North 5th Street, Spearfish, SD 57783 | City Hall, 625 North 5th Street, Spearfish, SD 57783 | Dec. 9, 2014 | 460046
Minnehaha (FEMA Docket No.: B-1442) | City of Hartford (14-08-0151P) | The Honorable Paul Zimmer, Mayor, City of Hartford, P.O. Box 727, Hartford, SD 57033 | City Hall, 125 North Main, Hartford, SD 57033 | Dec. 1, 2014 | 460180

[FR Doc. 2015-02506 Filed 2-6-15; 8:45 am]

BILLING CODE 9110-12-P